DEPARTMENT OF DEFENSE

Department of the Army, Corps of Engineers

33 CFR Part 209

[COE-2016-0016]

RIN 0710-AA72

Use of U.S. Army Corps of Engineers Reservoir Projects for Domestic, Municipal & Industrial Water Supply; Withdrawal

AGENCY: Army Corps of Engineers, DoD.

ACTION: Proposed rule; withdrawal.

SUMMARY: As a result of a policy determination by the Assistant Secretary of the Army (Civil Works), the U.S. Army Corps of Engineers (Corps) is withdrawing the proposed rule titled “Use of U.S. Army Corps of Engineers Reservoir Projects for Domestic, Municipal & Industrial Water Supply,” which was published on December 16, 2016.

DATES: The Corps is withdrawing the proposed rule published December 16, 2016 (81 FR 91556) as of March 23, 2020.

ADDRESSES: U.S. Army Corps of Engineers, 441 G Street NW, Washington, DC 20314.

FOR FURTHER INFORMATION CONTACT: Amy K. Frantz, Planning and Policy (CECW-P); telephone number: (202) 761-0106; email address: WSRULE2016@usace.army.mil; or Daniel Inkelas, Chief Counsel's Office (CECC-L); phone number (202) 761-0345; email address: WSRULE2016@usace.army.mil.

SUPPLEMENTARY INFORMATION: None.

Dated: March 16, 2020.
R.D. James,
Assistant Secretary of the Army, (Civil Works).

[FR Doc. 2020-05919 Filed 3-20-20; 8:45 am]

BILLING CODE 3720-58-P